DEPARTMENT OF COMMERCE

National Institute of Standards and Technology

[Docket No: 161207999-6999-02]

Reopening of Submission Period for National Institute of Standards and Technology Prize Competition—Reusable Abstractions of Manufacturing Processes (RAMP) Challenge

AGENCY: National Institute of Standards and Technology (NIST), United States Department of Commerce.

ACTION: Notice, reopening of submission period.

SUMMARY: The National Institute of Standards and Technology (NIST) is reopening the deadline for submitting entries and for resubmitting entries to the Reusable Abstractions of Manufacturing Processes (RAMP) Competition from March 20, 2017, to April 9, 2017. All entries submitted between December 19, 2016, and April 9, 2017, will be deemed timely and will be given full consideration. If, however, a person wishes to resubmit their entry, they may do so until the new deadline of April 9, 2017, and the new submission will replace the original submission. Entries submitted after the revised submission deadline of April 9, 2017, will not be reviewed or considered for the award.

DATES: Entries must be received no later than 11:59 p.m. Eastern Time April 9, 2017. Entries received between December 19, 2016 and April 9, 2017 shall be deemed timely and will be given full consideration.

ADDRESSES: Entries must be submitted electronically. To submit an entry, the participant must first create an account at challenge.gov and visit the Event Web site: https://www.challenge.gov/challenge/ramp-reusable-abstractions-of-manufacturing-processes/.

FOR FURTHER INFORMATION CONTACT: Questions about the RAMP prize competition can be directed to the RAMP Competition Manager, Swee Leong at (301) 975-5426. Please direct media inquiries to NIST's Office of Public Affairs at (301) 975-NIST.

SUPPLEMENTARY INFORMATION: On December 19, 2016, the National Institute of Standards and Technology (NIST) announced the Reusable Abstractions of Manufacturing Processes (RAMP) Challenge, with support from ASTM International, the National Science Foundation (NSF), and the American Society of Mechanical Engineers (ASME) Manufacturing Science and Engineering Conference (MSEC) Organizing Committee (81 FR 91912). The purpose of the RAMP Challenge is to familiarize the community with a recent standard for modeling manufacturing processes that was developed under the ASTM's E60.13 Subcommittee on Sustainable Manufacturing. The RAMP Challenge calls on participants (either as an individual or as a team) to model any manufacturing process and demonstrate application of the ASTM E3012-16 Unit Manufacturing Process (UMP) representation for purposes of information sharing and sustainability assessment. That announcement may be found at https://www.federalregister.gov/d/2016-30437.

NIST is reopening the deadline for submitting entries and for resubmitting entries to the RAMP Competition from March 20, 2017, to April 9, 2017. All entries submitted between December 19, 2016, and April 9, 2017, will be deemed timely and will be given full consideration. If, however, a person wishes to resubmit their entry, they may do so until the new deadline of April 9, 2017, and the new submission will replace the original submission. Entries submitted after the revised submission deadline of April 9, 2017, will not be reviewed or considered for the award.

Kevin Kimball,
NIST Chief of Staff.

[FR Doc. 2017-07037 Filed 4-7-17; 8:45 am]

BILLING CODE 3510-13-P